DEPARTMENT OF DEFENSE

GENERAL SERVICES ADMINISTRATION

NATIONAL AERONAUTICS AND SPACE ADMINISTRATION

48 CFR Part 1

[FAC 2024-05; Item II; Docket No. FAR-2024-0052; Sequence No. 1]

Federal Acquisition Regulation; Technical Amendments; Correction

AGENCY: Department of Defense (DoD), General Services Administration (GSA), and National Aeronautics and Space Administration (NASA).

ACTION: Final rule; correction.

SUMMARY: DoD, GSA, and NASA are issuing a correction to FAC 2024-05; Technical Amendments (Item II), which was published in the Federal Register on April 22, 2024. This correction makes an update to an OMB number that was recently revised.

DATES: Effective May 22, 2024.

FOR FURTHER INFORMATION CONTACT: Ms. Lois Mandell, Regulatory Secretariat Division (MVCB), at 202-501-4755 or GSARegSec@gsa.gov. Please cite FAC 2024-05, Technical Amendments; Correction.

SUPPLEMENTARY INFORMATION: DoD, GSA, and NASA are correcting an OMB control number under part 1, for section 1.106, published at 89 FR 30252, on April 22, 2024.

Correction

In FR Doc. 2024-07932, published in the Federal Register at 89 FR 30252, on April 22, 2024, make the following correction:

1.106 [Corrected]

1. On page 30252, in the second column, in section 1.106, in the FAR segment entry of “52.204-10(d)(2) and (3)”, the OMB control No. of “3090-0292” is corrected to read “9000-0177”.

William F. Clark,
Director, Office of Government-wide Acquisition Policy, Office of Acquisition Policy, Office of Government-wide Policy.

[FR Doc. 2024-10499 Filed 5-13-24; 8:45 am]

BILLING CODE 6820-EP-P